DEPARTMENT OF DEFENSE

Department of the Navy

[Docket ID: USN-2022-HQ-0006]

Proposed Collection; Comment Request

AGENCY: Department of the Navy, Department of Defense (DoD).

ACTION: 60-Day information collection notice.

SUMMARY: In compliance with the Paperwork Reduction Act of 1995, the United States Marine Corps (USMC) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 25, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Branch Head, Food, Lodging, and Commercial Recreation, Business and Support Services Division (MR), Headquarters, U.S. Marine Corps, 3044 Catlin Avenue, Quantico, VA 22134-5099, ATTN: Mr. James Willson-Quayle, or call 703-784-3811.

SUPPLEMENTARY INFORMATION:

Title; Associated Form; and OMB Control Number: Marine Corps Community Services Lodging Guest Registration; OMB Control Number 0703-0072.

Needs and Uses: The information collection requirement is necessary to keep a record of Marine Corps Community Services' (MCCS) lodging reservations to ensure orderly room assignment and avoid improper booking; to record registration and payment of accounts; to verify proper usage by eligible patrons; for cash control; to gather occupancy data; to determine occupancy breakdown; to account for rentals and furnishings; and to collect data for customer satisfaction and marketing. Patrons are required to present appropriate identification to determine their eligibility to access MCCS lodging's facilities and services.

Affected Public: Individual or Households.

MCCS Point-of-Sale System

Annual Burden Hours: 2,500.

Number of Respondents: 15,000.

Responses per Respondent: 1.

Annual Responses: 15,000.

Average Burden per Response: 10 minutes.

Frequency: On occasion.

MCCS Customer Service Feedback Survey

Annual Burden Hours: 82.5.

Number of Respondents: 1,650.

Responses per Respondent: 1.

Annual Responses: 1,650.

Average Burden per Response: 3 minutes.

Frequency: On occasion.

Dated: February 16, 2022.
Aaron T. Siegel,
Alternate OSD Federal Register Liaison Officer, Department of Defense.

[FR Doc. 2022-03827 Filed 2-22-22; 8:45 am]

BILLING CODE 5001-06-P